DEPARTMENT OF COMMERCE

International Trade Administration

[A-201-862]

Certain Glass Wine Bottles From Mexico: Final Affirmative Determination of Sales at Less Than Fair Value and Final Negative Determination of Critical Circumstances

AGENCY: Enforcement and Compliance, International Trade Administration, Department of Commerce.

SUMMARY: The U.S. Department of Commerce (Commerce) determines that imports of certain glass wine bottles (wine bottles) from Mexico are being, or are likely to be, sold in the United States at less than fair value (LTFV) for the period of investigation October 1, 2022, through September 30, 2023.

DATES: Applicable January 2, 2025.

FOR FURTHER INFORMATION CONTACT: Elizabeth Bremer or Maria Teresa Aymerich, AD/CVD Operations, Office IV, Enforcement and Compliance, International Trade Administration, U.S. Department of Commerce, 1401 Constitution Avenue NW, Washington, DC 20230; telephone: (202) 482-4987 or (202) 482-0499, respectively.

SUPPLEMENTARY INFORMATION:

Background

On August 9, 2024, Commerce published in the Federal Register its preliminary affirmative determination in the LTFV investigation of wine bottles from Mexico, in which it also postponed the final determination until December 23, 2024.¹ We invited interested parties to comment on the Preliminary Determination.² We received no comments from interested parties regarding the preliminary determination of negative critical circumstances. Therefore, we continue to determine that critical circumstances do not exist for all companies.³

¹ See Certain Glass Wine Bottles from Mexico: Preliminary Affirmative Determination of Sales at Less Than Fair Value, Preliminary Negative Determination of Critical Circumstances, Postponement of Final Determination, and Extension of Provisional Measures, 89 FR 65317 (August 9, 2024) (Preliminary Determination), and accompanying Preliminary Decision Memorandum.

² Id., 89 FR at 65318.

³ Id., 89 FR at 65317.

A summary of the events that occurred since Commerce published the Preliminary Determination, as well as a full discussion of the issues raised by parties for this final determination, may be found in the Issues and Decision Memorandum.⁴ The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

⁴ See Memorandum, “Issues and Decision Memorandum for the Final Affirmative Determination of Sales at Less Than Fair Value in the Investigation of Certain Glass Wine Bottles from Mexico,” dated concurrently with, and hereby adopted by, this notice (Issues and Decision Memorandum).

Scope of the Investigation

The products covered by this investigation are wine bottles from Mexico. For a complete description of the scope of this investigation, see Appendix I.⁵

⁵ See Appendix I.

Scope Comments

On August 19, 2024, Commerce published the final scope memorandum for this investigation.⁶ Commerce is not modifying the scope language as it appeared in the Initiation Notice and Preliminary Determination for the final determination.⁷ See the scope in Appendix I to this notice.

⁶ See Memorandum, “Glass Wine Bottles from the People's Republic of China, Chile, and Mexico: Final Scope Decision Memorandum,” dated August 19, 2024.

⁷ See Certain Glass Wine Bottles from Chile, the People's Republic of China, and Mexico: Initiation of Less-Than-Fair-Value Investigations, 89 FR 4911 (January 25, 2024) (Initiation Notice).

Verification

As provided in section 782(i) of the Tariff Act of 1930, as amended (the Act), in August and October 2024, we verified the sales and cost information submitted by Owens América, S. de R.L. de C.V. (Owens América) and Fevisa Industrial S.A. de C.V./Fevisa Comercial S.A. de C.V./Fábrica de Envases de Vidrio S.A. de C.V./Fábrica de Envases de Vidrio del Potosi, S.A. de C.V (collectively, Fevisa) for use in our final determination.⁸ We used standard verification procedures, including an examination of relevant sales and accounting records, and original source documents provided by Owens América and Fevisa.

⁸ See Memorandum, “Verification of Owens América, S. de R.L. de C.V.,” dated November 21, 2024; Memorandum, “CEP Verification of Owens América, S. de R.L. de C.V.,” dated November 21, 2024; Memorandum, “Verification of the Sales Response of Fevisa Industrial S.A. de C.V./Fevisa Comercial S.A. de C.V./Fábrica de Envases de Vidrio S.A. de C.V./Fábrica de Envases de Vidrio del Potosi, S.A. de C.V. (collectively Fevisa),” dated November 21, 2024; Memorandum, “Verification of the Cost Response of Fabrica de Envases de Vidrio S.A. de C.V.,” dated November 22, 2024; Memorandum, “Verification of the Cost Response of Owens América, S. de R.L. de C.V.,” November 22, 2024.

Analysis of Comments Received

All issues raised in the case and rebuttal briefs submitted by interested parties in this investigation are addressed in the Issues and Decision Memorandum. A list of the issues addressed in the Issues and Decision Memorandum is attached to this notice as Appendix II.

Changes Since the Preliminary Determination

Based on a review of the record and comments received from interested parties regarding our Preliminary Determination, we made certain changes to both Fevisa's and Owens America's preliminary weighted-average dumping margin calculations. For a discussion of these changes, see the Issues and Decision Memorandum.

All-Others Rate

Section 735(c)(5)(A) of the Act provides that the estimated weighted-average dumping margin for all other producers and exporters not individually investigated shall be equal to the weighted average of the estimated weighted-average dumping margins established for individually investigated exporters and producers, excluding rates that are zero, de minimis, or determined entirely under section 776 of the Act, i.e., facts otherwise available.

In this investigation, Commerce calculated estimated weighted-average dumping margins for Ownes America and Fevisa that are not zero, de minimis, or based entirely on facts otherwise available. Commerce calculated the all-others rate using a weighted average of the estimated weighted-average dumping margins calculated for the examined respondents using each company's publicly-ranged values for the merchandise under consideration.⁹

⁹ See Memorandum, “All-Others Rate Calculation,” dated concurrently with this notice. With two respondents under examination, Commerce normally calculates: (A) a weighted-average of the estimated weighted-average dumping margins calculated for the examined respondents; (B) a simple average of the estimated weighted-average dumping margins calculated for the examined respondents; and (C) a weighted-average of the estimated weighted-average dumping margins calculated for the examined respondents using each company's publicly-ranged U.S. sales values for the merchandise under consideration. Commerce then compares (B) and (C) to (A) and selects the rate closest to (A) as the most appropriate rate for all other producers and exporters. See, e.g., Ball Bearings and Parts Thereof from France, Germany, Italy, Japan, and the United Kingdom: Final Results of Antidumping Duty Administrative Reviews, Final Results of Changed-Circumstances Review, and Revocation of an Order in Part, 75 FR 53661, 53662 (September 1, 2010), and accompanying Issues and Decision Memorandum at Comment 1. As complete publicly ranged sales data were available, Commerce based the all others rate on the publicly ranged sales data of the mandatory respondents. For a complete analysis of the data, see the All Others Rate Calculation Memorandum.

Final Determination

Commerce determines that the following estimated weighted-average dumping margins exist:

Exporter and/or producer | Weighted-average dumping margin (percent)
Fevisa Industrial S.A. de C.V./Fevisa Comercial S.A. de C.V./Fábrica de Envases de Vidrio S.A. de C.V./Fábrica de Envases de Vidrio del Potosi, S.A. de C.V | 13.95
Glass & Glass S.A. de C.V | * 96.95
JOCOGLASS | * 96.95
Owens América S. de R.L. de C.V | 22.68
Pavisa Group | * 96.95
All Others | 16.75
* Rate based on adverse facts available.

Disclosure

Commerce intends to disclose the calculations performed in connection with this final determination to interested parties within five days of any public announcement or, if there is no public announcement, within five days of the date of publication of this notice in the Federal Register, in accordance with 19 CFR 351.224(b).

Continuation of Suspension of Liquidation

In accordance with section 735(c)(1)(B) of the Act, Commerce will instruct U.S. Customs and Border Protection (CBP) to continue to suspend liquidation of all entries of subject merchandise, as described in Appendix I of this notice, which were entered, or withdrawn from warehouse, for consumption on or after August 9, 2024, the date of publication of the Preliminary Determination in the Federal Register. These suspension of liquidation instructions will remain in effect until further notice.

Pursuant to section 735(c)(1)(B)(ii) of the Act and 19 CFR 351.210(d), upon the publication of this notice, we will instruct CBP to require a cash deposit for estimated antidumping duties for such entries as follows: (1) the cash deposit rate for the respondents listed in the table above is the company-specific estimated weighted-average dumping margins listed for the respondents in the table; (2) if the exporter is not a respondent listed in the table above, but the producer is, then the cash deposit rate is the company-specific estimated weighted-average dumping margins listed for the producer of the subject merchandise in the table above; and (3) the cash deposit rate for all other producers and exporters is the all-others estimated weighted-average dumping margins listed in the table above.

U.S. International Trade Commission Notification

In accordance with section 735(d) of the Act, Commerce will notify the U.S. International Trade Commission (ITC) of its final affirmative determination of sales at LTFV. Because Commerce's final determination is affirmative, in accordance with section 735(b)(2) of the Act, the ITC will make its final determination as to whether the domestic industry in the United States is materially injured, or threatened with material injury, by reason of imports or sales (or the likelihood of sales) for importation of aluminum extrusions no later than 45 days after this final determination. If the ITC determines that such injury does not exist, this proceeding will be terminated, all cash deposits posted will be refunded, and suspension of liquidation will be lifted. If the ITC determines that such injury does exist, Commerce will issue an antidumping duty order directing CBP to assess, upon further instruction by Commerce, antidumping duties on all imports of the subject merchandise entered, or withdrawn from warehouse, for consumption on or after the effective date of the suspension of liquidation, as discussed in the “Continuation of Suspension of Liquidation” section above.

Administrative Protective Order

This notice serves as the only reminder to parties subject to an administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

Notification to Interested Parties

This final determination and notice are issued and published in accordance with sections 735(d) and 777(i) of the Act and 19 CFR 351.210(c).

Dated: December 23, 2024.
Abdelali Elouaradia,
Deputy Assistant Secretary for Enforcement and Compliance.

Appendix I

Scope of the Investigation

The merchandise covered by this investigation is certain narrow neck glass bottles, with a nominal capacity of 740 milliliters (25.02 ounces) to 760 milliliters (25.70 ounces); a nominal total height between 24.8 centimeters (9.75 inches) to 35.6 centimeters (14 inches); a nominal base diameter between 4.6 centimeters (1.8 inches) to 11.4 centimeters (4.5 inches); and a mouth with an outer diameter of between 25 millimeters (.98 inches) to 37.9 millimeters (1.5 inches); frequently referred to as a “wine bottle.” In scope merchandise may include but is not limited to the following shapes: Bordeaux (also known as “Claret”), Burgundy, Hock, Champagne, Sparkling, Port, Provence, or Alsace (also known as “Germanic”). In scope glass bottles generally have an approximately round base and have shapes including but not limited to, straight-sided, a tapered slope from shoulder (i.e., the sloping part of the bottle between the neck and the body) to base, or a long neck with sloping shoulders to a wider base. The scope includes glass bottles, whether or not clear, whether or not colored, with or without a punt (i.e., an indentation on the underside of the bottle), and with or without design or functional enhancements (including, but not limited to, embossing, labeling, or etching). In scope merchandise is made of non-“free blown” glass, i.e., in scope merchandise is produced with the use of a mold and is distinguished by mold seams, joint marks, or parting lines. In scope merchandise is unfilled and may be imported with or without a closure, including a cork, stelvin (screw cap), crown cap, or wire cage and cork closure.

Excluded from the scope of this investigation are: (1) glass containers made of borosilicate glass, meeting United States Pharmacopeia requirements for Type 1 pharmaceutical containers; and (2) glass containers without a “finish” (i.e., the section of a container at the opening including the lip and ring or collar, threaded or otherwise compatible with a type of closure, including but not limited to a cork, stelvin (screw cap), crown cap, or wire cage and cork closure).

Glass bottles subject to this investigation are specified within the Harmonized Tariff Schedule of the United States (HTSUS) under subheading 7010.90.5019. The HTSUS subheading is provided for convenience and customs purposes only. The written description of the scope of this investigation is dispositive.

Appendix II

List of Topics Discussed in the Issues and Decision Memorandum

I. Summary

II. Background

III. Changes Since the Preliminary Determination

IV. Discussion of the Issues

Comment 1: Whether Commerce Should Revise Home Market Warehousing Expenses

Comment 2: Whether Commerce Should Revise Home Market Credit Expenses

Comment 3: Whether Commerce Should Revise Home Market Indirect Selling Expenses (ISE)

Comment 4: Whether Commerce Should Revise Domestic Inland Freight for Certain U.S. Sales

Comment 5: Whether Commerce Should Revise U.S. Brokerage Charges

Comment 6: Whether Commerce Should Account for the Omission of One U.S. Expense

Comment 7: Whether Commerce Should Revise U.S. Credit Expenses

Comment 8: Whether Commerce Should Revise U.S. Bank Charges

Comment 9: Whether Commerce Should Revise U.S. Indirect Selling Expenses

Comment 10: Whether Commerce Should Assign Cost to a New Control Number (CONNUM)

Comment 11: Whether the Differential Pricing Methodology is Unlawful

Comment 12: Whether Fevisa Is Affiliated With Its U.S. Customer

V. Recommendation

[FR Doc. 2024-31451 Filed 12-31-24; 8:45 am]

BILLING CODE 3510-DS-P